DEPARTMENT OF DEFENSE

Department of the Navy

Notice of Availability of Invention for Licensing, Government-Owned Invention

AGENCY: Department of the Navy, DOD.

ACTION: Notice.

SUMMARY: The invention listed below is assigned to the United States Government as represented by the Secretary of the Navy and is available for licensing by the Department of the Navy. U.S. Patent Application Serial No. 09/766,625 entitled “Prevention or Reversal of Sensorial Hearing Loss through Biological Mechanisms,” filed January 12, 2001, Navy Case No. 82,956.

ADDRESSES: Requests for copies of the patent application cited should be directed to the Office of Naval Research, ONR 00CC, Ballston Tower One, 800 North Quincy St., Arlington, VA 22217-5660, and must include the patent application number.

FOR FURTHER INFORMATION CONTACT: Mr. A. D. Spevack, Supervisory Associate Counsel, Office of Naval Research, ONR 00CC, Ballston Tower One, 800 North Quincy St., Arlington, VA 22217-5660, telephone (703) 696-4007.

(Authority: 35 U.S.C. 207, 37 CFR Part 404)
Dated: January 15, 2002.
T.J. Welsh,
Lieutenant Commander, Judge Advocate General's Corps, U.S. Navy, Federal Register Liaison Officer.

[FR Doc. 02-1447 Filed 1-18-02; 8:45 am]

BILLING CODE 3810-FF-P